DEPARTMENT OF THE TREASURY

Customs Service

Customs Trade Symposium 2001

AGENCY: U. S. Customs Service, Treasury.

ACTION: Notice of Customs trade symposium 2001.

SUMMARY: This document announces that the U.S. Customs Service will convene a major trade symposium that will feature joint discussions by Customs, members of the trade, and other public and private sector representatives on the challenges of facilitating the flow of commerce in a heightened security environment. Newly appointed Customs Commissioner Robert C. Bonner will be the keynote speaker. This event is open to members of the international trade and transportation community and other interested parties.

DATES: Reception and pre-registration will be held on Monday, November 26, 2001, from 6 p.m. to 8 p.m. The symposium will be held on Tuesday, November 27, 2001, from 8:30 a.m. to 6 p.m. All registrations must be made on-line and confirmed by November 19, 2001.

ADDRESSES: The meeting will be held in Washington, DC, at the J.W. Marriott Hotel, 1331 Pennsylvania Avenue, NW.

FOR FURTHER INFORMATION CONTACT: ACS Client Representatives; Customs Account Managers; or the Office of the Trade Ombudsman at (202)

927-1440 (trade.ombudsman@customs.treas.gov). To obtain the latest information on program changes or to register on-line, visit the Customs Web site at http://www.customs.gov/trade2001.

SUPPLEMENTARY INFORMATION: The cost is $150.00 per individual and includes a reception and luncheon. All registrations must be made on-line at the Customs Web site (http://www.customs.treas.gov/trade2001). Registrations will be accepted on a space available basis and must be confirmed by November 19, 2001. The J.W. Marriott has reserved a block of rooms for November 26th and 27th for overnight accommodations. The room rate is $119 US dollars and reservations must be confirmed with the Marriott by November 9, 2001. Call 1-800-228-9290 and reference “U.S. Customs Trade Symposium 2001”.

Dated: October 18, 2001.
Eula D. Walden,
Acting Trade Ombudsman, U.S. Customs Service.

[FR Doc. 01-26699 Filed 10-22-01; 8:45 am]

BILLING CODE 4820-02-P